DEPARTMENT OF TRANSPORTATION

Pipeline and Hazardous Materials Safety Administration

[Docket No. PHMSA-2011-0063]

Pipeline Safety: Request for Special Permit

AGENCY: Pipeline and Hazardous Materials Safety Administration (PHMSA); DOT.

ACTION: Notice.

SUMMARY: Pursuant to the Federal pipeline safety laws, PHMSA is publishing this notice of special permit requests we have received from several pipeline operators, seeking relief from compliance with certain requirements in the Federal pipeline safety regulations. This notice seeks public comments on these requests, including comments on any safety or environmental impacts. At the conclusion of the 30-day comment period, PHMSA will evaluate the requests and determine whether to grant or deny a special permit.

DATES: Submit any comments regarding these special permit requests by May 16, 2011.

ADDRESSES: Comments should reference the docket numbers for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or e-mail at kay.mciver@dot.gov.

Technical: Steve Nanney by telephone at 713-628-7479, or e-mail at Steve.Nanney@dot.gov.

SUPPLEMENTARY INFORMATION: PHMSA has received requests for special permits from several pipeline operators who seek relief from compliance with certain pipeline safety regulations. Each request includes a technical analysis provided by the respective operator. Each request has been filed at www.Regulations.gov and assigned a separate docket number. We invite interested persons to participate by reviewing these special permit requests at http://www.Regulations.gov, and by submitting written comments, data or other views. Please include any comments on potential environmental impacts that may result if these special permits are granted.

Before acting on these special permit requests, PHMSA will evaluate all comments received on or before the comments closing date. Comments will be evaluated after this date if it is possible to do so without incurring additional expense or delay. PHMSA will consider each relevant comment we receive in making our decision to grant or deny a request.

PHMSA has received the following special permit requests:

Docket No. | Requester | Regulation(s) | Nature of special permit
PHMSA-2010-0311 | Gulf South Pipeline Company LP (GSPC) (Operated by Boardwalk Pipeline Partners) | 49 CFR 192.611 | To authorize Gulf South Pipeline LP (GSPC) to engage in an alternative approach to conduct risk control activities based on Integrity Management Program principles rather than lowering the Maximum Allowable Operating Pressure (MAOP) or replacing the subject pipe segments. This application is for two 30-inch segments, segments 3 and 4, of the TPL 330 natural gas pipeline located in St. Landry Parish of Louisiana. These segments have changed from Class 1 and 2 locations to Class 3 locations. Segments 3 and 4 are located at Survey Station 3,673+02 ft. to Survey Station 3,696+13 ft. and Survey Station 3,772+10 ft. to Survey Station 3,806+09 ft., respectively. Both segments have a MAOP of 1,000 psig and a total combined length of 1.08 miles.
PHMSA-2010-0300 | Belle Fourche | 49 CFR 195.106, 195.112(a)(b), 195.120, 195.200, 195.406(a)(1) and 195.653 | To authorize Belle Fourche an exemption from certain requirements in Subpart A, Subpart C and Subpart H of 49 CFR Part 195. Belle Fourche seeks exception in two general categories; first for permission to allow flexible steel pipe in Federally regulated service, and second to adopt the use of requirements and standards appropriate for flexible steel pipes. Belle Fourche further seeks permission to insert Flexsteel pipe into 32 miles of existing out-of-service 4-inch steel pipelines, for the transport of diesel fuel from Belle Fourche's Hawk Point station to the Arch Coal Mine diesel tank in Campbell County, Wyoming.
PHMSA-2006-26618 | El Paso Pipeline Group for Tennessee Gas Pipeline | 49 CFR 192.611 | To authorize Tennessee Gas Pipeline to extend previously approved permit for the 30-inch Niagara Spur Loop Line 230B-200, near Lockport, New York by an additional 1,250 feet. The previously issued permit allowed Tennessee Gas Pipeline (TGP) to operate at or below the MAOP of 877 psig.
PHMSA-2011-0056 | Exxon Mobil | 49 CFR 195.452(h)(4) | To authorize Exxon Mobil Pipeline Company (EMPCo) permission to employ alternative repair criteria to repair reconditioned sections of the South Bend to New Iberia and the New Iberia to Sunset segments of their pipeline. Specifically EMPCo proposes to leave in-situ the anomalous conditions that were previously repaired/addressed during reconditioning activities performed circa 1951, prior to the pipeline installation. This pipeline transports crude production from Louisiana's South Marsh Island Offshore System pipeline (South Bend Station) to New Iberia and Sunset stations for further delivery into Alon's refinery in Krotz Springs or the Anchorage Terminal near Baton Rouge. The segment is 34.5 miles long. Of that portion, the HCA mileage is 32.0 miles. The pipeline runs through the counties of Parish, St. Martin, Lafayette and St. Landy in Louisiana. The pipeline segment is Interstate with original construction dates of 1951, 1952 and 1967. The majority of the 12.75″ OD line was constructed from pipe that was reconditioned post World War II (including puddle welding of pitted and dented areas, double jointing, and new coating).

Authority: 49 U.S.C. 60118 (c)(1) and 49 CFR 1.53.

Issued in Washington, DC, on April 8, 2011.
Jeffrey D. Wiese,
Associate Administrator for Pipeline Safety.

[FR Doc. 2011-9226 Filed 4-14-11; 8:45 am]

BILLING CODE 4910-60-P